DEPARTMENT OF LABOR

Employment and Training Administration

Solicitation for Grant Applications (SGA) Work Incentive Grants

AGENCY: Employment and Training Administration (ETA), Labor.

ACTION: Notice; Technical Assistance/Bidders' Conferences.

SUMMARY: The Employment and Training Administration published a document in the Federal Register of May 25, 2000, concerning the availability of grant funds designed to enhance the employability, employment and career advancement of people with disabilities through enhanced service delivery in the new One-Stop delivery system established under the Workforce Investment Act of 1998.

FOR FURTHER INFORMATION CONTACT: B. Jai Johnson, Grants Management Specialist, Division of Federal Assistance, Fax (202) 219-8739. Technical assistance/bidders' conferences will be held regarding the Department's Solicitation for Grant Application (SGA) for Work Incentive Grants at the following times and places:

June 6: 1 p.m. to 5 p.m.—Pierson Auditorium, University of Missouri at Kansas City, 5000 Holmes Avenue, Kansas City, Missouri 64110 (816) 235-1758. Contact for this location is Kelli Ellerbusch.

June 8: 9 a.m. to 1 p.m.—Oakland Federal Building, 1301 Clay St., Oakland, California 94612. Contact for this location is Chris Neilson at (510) 628-0665.

June 15: 9 a.m. to 1 p.m.—U.S. Department of Labor Auditorium, 200 Constitution Ave., N.W. 20210. Contact at this location is Paul Bennett at (202) 693-4937.

Specific information related to the SGA can be obtained from the following homepage: http://wdsc.org/disability. For general information on the technical assistance/bidders' conferences, please contact Paul Bennett at (202) 693-4927 or via e-mail at bennett-paul@dol.gov. Please contact Mr. Bennett to identify any special needs required at the technical assistance conference you plan to attend. If you are traveling from out of town, you will need to make hotel reservations on your own.

Signed at Washington, DC, this 25th day of May, 2000.
Laura Cesario,
Grant Officer.

[FR Doc. 00-14005 Filed 6-2-00; 8:45 am]

BILLING CODE 4510-30-U